DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, D.C. 20230. Applications may be examined between 8:30 a.m. and 5:00 p.m. in Room 4211, U.S. Department of Commerce, 14th Street and Constitution Avenue, N.W., Washington, D.C.

Docket Number: 00-011. Applicant: University of Michigan, 930 N. University Avenue, Ann Arbor, MI 48109-1055. Instrument: Electron Beam Evaporator, Model EGN4. Manufacturer: Oxford Applied Research, United Kingdom. Intended Use: The instrument is intended to be used for studies of how various materials interact with thin metal films. Application accepted by Commissioner of Customs: April 21, 2000.

Docket Number: 00-013. Applicant: Allegheny-Singer Research Institute, 320 East North Avenue, Pittsburgh, PA 15212-4772. Instrument: Robot and Microplate Manipulator, Model Q-Bot. Manufacturer: Genetix Limited, United Kingdom. Intended Use: The instrument is intended to be used to prepare addressable libraries of DNA clones (both genomic and cDNA) for comparative gene expression studies (the basis of the science of functional genomics) to understand the differences between normal physiologic processes. The instrument will also be used for educational objectives through teaching trainees in the most current means to comparatively evaluate differences in gene expression. Application accepted by Commissioner of Customs: April 21, 2000.

Frank W. Creel,
Director, Statutory Import Programs Staff.

[FR Doc. 00-11468 Filed 5-5-00; 8:45 am]

BILLING CODE 3510-DS-P